DEPARTMENT OF HEALTH AND HUMAN SERVICES

Centers for Disease Control and Prevention

[Program Announcement 01012]

Prevention Education and Access to Care Services for Persons Infected and Affected by HIV; Notice of Availability of Funds

A. Purpose

The Centers for Disease Control and Prevention (CDC) announces the availability of fiscal year (FY) 2001 funds for a cooperative agreement program for prevention education and access to care services for persons infected and affected by HIV. This program addresses the “Healthy People 2010” focus area of Human Immunodeficiency Virus Infection (HIV). For the conference copy of “Healthy People 2010” visit the internet site: <http://www.health.gov/healthypeople> The purpose of this program is to support the establishment of a national program to (1) provide education and prevention programs for persons infected with HIV to reduce risk for transmitting HIV and facilitate access to care services; and (2) provide technical assistance to other CDC grantees to enhance their capacity to serve persons living with HIV and involve them in HIV prevention programs and planning efforts. Emphasis should be placed on providing assistance to grantees funded directly by CDC. Other HIV service providers can be provided assistance only if resources are sufficient for expanded services.

B. Eligible Applicants

Assistance will be provided only to national (organizations that conduct HIV prevention programs nationwide) non-profit organizations that meet the following criteria:

1. Have a valid tax-exempt status under Section 501(c)(3), as evidenced by an Internal Revenue Service (IRS) determination letter.

2. Have established policies and a documented record for at least three years of providing HIV prevention technical assistance and education nationally, serving as a national prevention and education resource, and facilitating access to care services for all people infected by HIV/AIDS.

3. More than 50% of the board of directors OR key staff (key management, supervisory, administrative positions such as executive, program, and fiscal director positions and key service provision positions) should be comprised of HIV infected people. Provide evidence of meeting this criteria by providing a description of your board composition and signing the enclosed certification. The certification must be signed by the board Chairperson or the Executive Director/CEO.

4. At least 50% of the organization's resources over the last three years must have been spent on HIV services for HIV infected persons. Submit a list of all funding (including in-kind resources) received in the last three years and identify the resources used to conduct activities targeting HIV infected persons. This information is subject to review and verification.

Note: Public Law 104-65 states that an organization described in section 501(c)(4) of the Internal Revenue Code of 1986 that engages in lobbying activities is not eligible to receive Federal funds constituting an award, grant, cooperative agreement, contract, loan, or any other form.

C. Availability of Funds

Approximately $465,000 is available in FY 2001 to fund one award. It is expected that the award will begin on or about February 28, 2001 and will be made for a 12-month budget period within a project period of up to 5 years. Funding estimates may change.

Continuation awards within an approved project period will be made on the basis of satisfactory progress as evidenced by required reports and the availability of funds.

D. Program Requirements

In conducting the activities to achieve the purpose of the program, the recipient will be responsible for the activities listed under 1. (Recipient Activities), and CDC will be responsible for the activities listed under 2. (CDC Activities).

1. Recipient Activities

a. Develop national strategies and policies to achieve the purposes of this program through collaboration with constituents; State and local health departments; State and local education agencies; nongovernmental partners; and CDC.

b. Implement specific, measurable, and feasible goals and objectives.

c. Evaluate the effectiveness of the program in achieving the goals and objectives.

d. Implement an operational plan that includes the following activities:

(1) Disseminate current, accurate HIV/AIDS prevention education, information, and referrals to persons living with HIV infection, their service providers, other CDC grantees (State and local health departments, State and local education agencies, nongovernmental organizations), the public, and the broadcast media. Electronic communications should be used as an important means to provide such information.

(2) Collaborate with CDC grantees and other HIV service providers to reach persons and communities most affected by HIV/AIDS, particularly communities of color, and encourage them to learn their HIV status.

(3) Provide programmatic technical assistance to CDC grantees on effective HIV prevention strategies for persons living with HIV, including how to involve them in HIV prevention efforts. Other HIV service providers can be provided assistance only if resources are sufficient for expanded services.

(4) Strengthen the capacity of CDC grantees through technical assistance and training to support and involve persons living with HIV in planning and implementing HIV prevention activities and in HIV prevention community planning activities.

(5) Where local capacity is lacking, provide leadership development training to persons living with HIV/AIDS, including young people, to support their involvement in planning and implementing HIV prevention activities and in HIV prevention community planning efforts to ensure the parity, inclusion, and representation of persons with HIV disease throughout the community planning process.

2. CDC Activities

a. Provide and periodically update information related to the purposes or activities of this program announcement.

b. Facilitate collaboration with other CDC grantees in planning and conducting national strategies designed to strengthen programs for preventing HIV infection.

c. Provide programmatic consultation and guidance related to program planning, implementation, and evaluation; assessment of program objectives; and dissemination of successful strategies, experiences, and evaluation reports.

E. Application Content

Use the information in the Program Requirements, Other Requirements and Evaluation Criteria sections to develop your application content. Your application will be evaluated on the criteria listed, so it is important to follow the evaluation criteria closely in laying out your program plan. The narrative should be no more than 35 double-spaced pages, printed on one side, with one inch margins, and 12-point font. Please adhere to the following page limits for each section of your narrative:

1. Background and Need—Not more than 3 pages

2. Capacity—Not more than 3 pages

3. Operational Plan—Not more than 15 pages

4. Project Management and Staffing Plan—Not more than 8 pages.

5. Collaborating—Not more than 2 pages.

6. Evaluation—Not more than 4 pages.

7. Budget.

8. Other Funding Sources.

F. Submission and Deadline

Submit the original and two copies of PHS 5161-1 (OMB Number 0937-0189). Forms are available at the following Internet address: www.cdc.gov/ * * * Forms, or in the application kit. On or before December 22, 2000, submit the application to the Grants Management Specialist identified in the “Where to Obtain Additional Information” section of this announcement. Deadline: Applications shall be considered as meeting the deadline if it is either:

(a) Received on or before the deadline date; or

(b) Sent on or before the deadline date and received in time for submission to the independent review group. (Applicant must request a legibly dated U.S. Postal Service postmark or obtain a legibly dated receipt from a commercial carrier or U.S. Postal Service. Private metered postmarks shall not be acceptable as proof of timely mailing.)

G. Evaluation Criteria

Your application will be evaluated individually against the following criteria by an independent review group appointed by CDC.

1. Background and Justification of Need (15 points)

a. Need. The degree to which the applicant describes the need for the proposed activities.

b. Background and Experience. The degree to which the applicant describes it's organization's background, provides evidence of policies developed and experience in addressing identified needs and providing services for people infected by HIV/AIDS for the past three years.

2. Capacity (20 points)

a. Ability. The degree to which the applicant describes the organization's ability to: (1) Deliver effective HIV prevention messages to HIV positive communities nationwide. (2) Provide national technical assistance and training to constituents that relate to HIV prevention, and education programs and services that will enhance their ability to serve persons living with HIV and involve them in HIV prevention programs and planning efforts. (3) Identify and train HIV positive Community Planning Group (CPG) members to serve and be productive members of state/local CPGs.

b. Coordination. The degree to which the applicant describes the organization's planned coordination with other CDC grantees (nongovernmental organizations, State and local health departments, community planning groups, and education agencies,) and other national and community level HIV prevention partners; provides documentation demonstrating that activities will be conducted nationally; and that the organization has experience addressing the needs of ALL communities living with HIV/AIDS nationwide.

c. Communication. The degree to which the applicant describes the organization's ability to communicate information related to the needs of people living with HIV/AIDS to ALL communities affected by HIV/AIDS in the U.S.

d. Organizational Structure. The degree to which applicant's organizational chart describes the organization's structure and how that structure supports its ability to provide education and prevention activities for the HIV positive communities nationally.

e. Scope of activities. The degree to which the applicant describes and documents the organization's capacity to conduct activities nationally that addresses the needs of HIV positive people and their relationship to all communities affected by HIV/AIDS.

3. Operational Plan (25 points)

The extent to which the applicant:

a. Goals. Describes goals that relate to the program requirements and indicate where the program will be at the end of the projected 5 year project period.

b. Objectives. Describes objectives that are specific, measurable, and feasible to be accomplished during the 12-month budget period. Relate the objectives directly to the project goals and recipient activities.

c. Activities. Describes in narrative form and displays on a detailed timetable, specific activities for the one year budget period that are related to each objective, address each recipient activity, and target the populations most affected by HIV/AIDS. The extent to which the applicant indicates when each activity will occur, when preparations for activities will occur, who will be responsible for each activity, and identifies staff who will work on each activity.

4. Project Management and Staffing Plan (15 points)

a. Staffing. The extent to which the applicant describes the proposed staffing for the project and provides job descriptions for existing and proposed positions.

b. Curriculum vitae. Does the applicant include curriculum vitae (limit to two pages per person) for each professional staff member named in the proposal?

c. Other organizations. If other organizations will participate in the proposed activities, does the applicant provide the names of the organizations and the staff person with the applicant's organization who will coordinate the activity or supervise the other staff. For each organization listed, does the applicant provide a letter identifying the specific activity and the capacity of the assisting organization or subcontractor, and their role in carrying out the proposed activity.

5. Collaborating Plan (10 points)

The extent to which the applicant describes the types of proposed collaboration and the agencies and organizations with whom collaboration will be conducted. Examples of such activities include planning joint conferences, participating in conferences or workshops of other CDC grantees, participating in a national coordinating committee.

6. Evaluation Plan (15 points)

The extent to which the applicant describes the methods for evaluating the project objectives, the implementation of the plan of operation, and how the quality of services will be ensured. The extent to which the applicant focuses on process evaluation and quality assurance; specifies the evaluation question to be answered, data to be obtained, the type of analyses, to whom it will be reported, and how data will be used to improve the program.

7. Budget (Not scored)

The extent to which the applicant provides a line item budget with written justification to support the request for assistance, consistent with the purpose and objectives of the project.

Other Funding Sources

The extent to which the applicant indicates their contribution, if any and describes funding from other sources.

H. Other Requirements

Technical Reporting Requirements

Provide CDC with original plus two copies of:

1. progress reports semiannually.

2. financial status report, no more than 90 days after the end of the budget period.

3. final financial status and performance reports, no more than 90 days after the end of the project period.

Send all reports to the Grants Management Specialist identified in the “Where to Obtain Additional Information” section of this announcement.

The following additional requirements are applicable to this program. For a complete description of each, see Attachment I in the application kit.

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-15 Proof of Non-Profit Status

I. Authority and Catalog of Federal Domestic Assistance Number

This program is authorized under Sections 301 and 317(k)(2), of the Public Health Service Act [42 U.S.C. 241 and 247b(k)(2)], as amended. The Catalog of Federal Domestic Assistance number is 93.941.

J. Where To Obtain Additional Information

This and other CDC announcements can be found on the CDC home page Internet address—http://www.cdc.gov Click on “Funding” then “Grants and Cooperative Agreements.”

To receive additional written information and request an application kit, call 1-888-GRANTS4 (1-888-472-6874). You will be asked to leave your name and address and will be instructed to identify the Announcement number of interest.

If you have questions after reviewing the contents of all the documents, business management technical assistance may be obtained from: Sharon Robertson, Grants Management Specialist, Grants Management Branch, Procurement and Grants Office, Centers for Disease Control and Prevention (CDC), Room 3000, 2920 Brandywine Road, Atlanta, GA 30341-4146, Telephone number (770) 488-2782, Email address: sqr2@cdc.gov.

For program technical assistance, contact: Sam Taveras, Team Leader, Community Assistance, Planning, and National Partnerships Branch, Division of HIV/AIDS Prevention, National Center for HIV, STD and TB Prevention, Centers for Disease Control and Prevention (CDC), 1600 Clifton Road, Mailstop E-58, Atlanta, GA 30333, Telephone 404-639-0965, Email SYT2@cdc.gov.

October 20, 2000.
Sandra R. Manning,
Acting Director, Procurement and Grants Office, Center for Disease Control And Prevention.

[FR Doc. 00-27504 Filed 10-26-00; 8:45 am]

BILLING CODE 4163-18-P